DEPARTMENT OF THE INTERIOR

National Indian Gaming Commission

25 CFR Part 537

RIN 3141-AA58

Background Investigations for Persons or Entities With a Financial Interest in or Having a Management Responsibility for a Management Contract; Correction

AGENCY: National Indian Gaming Commission, Department of the Interior.

ACTION: Proposed rule; correction.

SUMMARY: This document corrects the preamble to a proposed rule published in the Federal Register of December 2, 2021, regarding Background Investigations for Persons or Entities with a Financial Interest in or Having a Management Responsibility for a Management Contract. The document contained incorrect dates for submitting comments. This correction clarifies that comments are due January 31, 2022.

FOR FURTHER INFORMATION CONTACT: Michael Hoenig, 202-632-7003.

SUPPLEMENTARY INFORMATION:

Correction

In the Federal Register of December 2, 2021, in proposed rule FR Doc. 2021-25844, on page 68446, in the second column, change the Dates caption to read:

DATES: Written comments on this proposed rule must be received on or before January 31, 2022.

Dated: January 6, 2022.
Michael Hoenig,
General Counsel.

[FR Doc. 2022-00631 Filed 1-13-22; 8:45 am]

BILLING CODE 7565-01-P